DEPARTMENT OF EDUCATION

[Docket No.: ED-2023-SCC-0093]

Agency Information Collection Activities; Submission to the Office of Management and Budget for Review and Approval; Comment Request; Application Forms and Instructions for the Fulbright-Hays Training Grants: Doctoral Dissertation Research Abroad (CFDA Number 84.022A) and Faculty Research Abroad (CFDA Number 84.019A)

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before June 26, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Pamela Maimer, (202) 453-6891.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application Forms and Instructions for the Fulbright-Hays Training Grants: Doctoral Dissertation Research Abroad (CFDA Number 84.022A) and Faculty Research Abroad (CFDA Number 84.019A).

OMB Control Number: 1840-0005.

Type of Review: Revision of a currently approved ICR.

Respondents/Affected Public: Private Sector .

Total Estimated Number of Annual Responses: 495.

Total Estimated Number of Annual Burden Hours: 11,875.

Abstract: This information collection is a revision, the purpose of which is to make changes to the DDRA and FRA applications to be consistent with an NPRM to amend the programs' regulations. The programs' applications must be updated to reflect the regulatory changes relating to the programs' selection criteria in CFR part 662.21(c)(3) and 663.21(c)(3). These amendments will result in a change in DDRA student respondents and hour burden.

The purpose of Section 102(b)(6) of the Mutual Educational and Cultural Exchange Act of 1961 (Fulbright-Hays Act) is to promote and develop modern foreign language training and area studies throughout the educational structure of the United States. To help accomplish this objective, fellowships are awarded through US institutions of higher education to American faculty and dissertation students enabling them to conduct overseas research and enhance their foreign language proficiency.

Under the Fulbright-Hays Doctoral Dissertation Research Abroad (DDRA) and the Fulbright-Hays Faculty Research Abroad (FRA) programs, individual scholars apply through eligible institutions for an institutional grant to support the research fellowship. These institutions administer the program in cooperation with the US Department of Education (US/ED) as provided under the authority of Sections 102(b)(6) and 104(e)(1) of the Mutual Educational and Cultural Exchange Act of 1961, 34 CFR parts 662, and the Policy Statements of the J. William Fulbright Foreign Scholarship Board (FSB).

This collection is being submitted under the Streamlined Clearance Process for Discretionary Grant Information Collections (1894-0001). Therefore, the 30-day public comment period notice will be the only public comment notice published for this information collection.

Dated: May 23, 2023.
Kun Mullan,
PRA Coordinator, Strategic Collections and Clearance Governance and Strategy Division, Office of Chief Data Officer, Office of Planning, Evaluation and Policy Development.

[FR Doc. 2023-11255 Filed 5-25-23; 8:45 am]

BILLING CODE 4000-01-P